DEPARTMENT OF TRANSPORTATION

Connected Vehicle Research Program Public Meeting; Notice of Public Meeting

AGENCY: ITS Joint Program Office, Research and Innovative Technology Administration, U.S. Department of Transportation.

ACTION: Notice.

The U.S. Department of Transportation (USDOT) Intelligent Transportation System Joint Program Office (ITS JPO) will host its annual free public meeting to provide an overview of the ITS JPO Connected Vehicle research program. The meeting will take place September 24 to 26, 2013, at the Holiday Inn Arlington at Ballston, 4610 Fairfax Drive, Arlington, VA, 22203, 703-243-9800. Persons planning to attend the meeting should register online at www.itsa.org/connectedvehicleworkshop.

The public meeting is the best opportunity to learn details about the Connected Vehicle research program in anticipation of the National Highway Traffic Safety Administration's 2013 decision regarding vehicle safety communications for light vehicles and 2014 decision for heavy vehicles. The meeting will have focused discussions on the ITS JPO's Connected Vehicle safety program, including vehicle-to-vehicle communications, safety pilot, vehicle-to-infrastructure communications, human factors, and policy. There will also be a special session dedicated to the ITS Strategic Plan for 2015 to 2019 including a session on the developing USDOT Multimodal Plan for Vehicle Automation. The agenda for the meeting will be posted on the ITS JPO Web site at www.its.dot.gov.

About the Connected Vehicle Research Program at USDOT

Connected Vehicle research at USDOT is a multimodal program that involves using wireless communication between vehicles, infrastructure, and personal communications devices to improve safety, mobility, and environmental sustainability. To learn more about the Connected Vehicle program please visit www.its.dot.gov.

Issued in Washington, DC, on the 21st day of August 2013.
Stephen Glasscock,
Program Analyst, ITS Joint Program Office.

[FR Doc. 2013-20831 Filed 8-26-13; 8:45 am]

BILLING CODE 4910-HY-P